DEPARTMENT OF ENERGY

Federal Energy Regulatory Commission

[Project No. 2721-013; Maine]

Penobscot Hydro, LLC; Notice of Intent To Conduct Public Scoping Meetings and Site Visit

September 12, 2000.

The Federal Energy Regulatory Commission (Commission/FERC) received an application from the Penobscot Hydro, (LLC Penobscot) to relicense the Howland Hydroelectric Project No. 2721-013. The 1.875-megawatt project is located on Piscataquis River in Penobscot County, Maine. The Commission will hold public and agency scoping meetings on October 3 and 4, 2000, for preparation of an Environmental Assessment (EA) under the National Environmental Policy Act (NEPA) for the issuance of a major license for the project.

Scoping Meetings

Scoping meeting will focus on public and resource agency and non-governmental organization (NGO) concerns. All interested individuals, organizations, and agencies are invited to attend one or both of the meetings, and to assist the staff in identifying the scope of the environmental issues that should be analyzed in the EA. The times and locations of these meetings are as follows:

Evening Scoping Meeting

Date: Tuesday, October 3, 2000

Time: 7 p.m. to 9 p.m.

Place: Howland Town Hall

Address: 8 Main Street, Howland, Maine

Morning Scoping Meeting

Date: Wednesday, October 4, 2000

Time: 9 a.m. to 11 a.m.

Place: Howland Town Hall

Address: 8 Main Street, Howland, Maine

To help focus discussion, we will distribute a Scoping Document (SD1) outlining the subject areas to be addressed at the meeting to the parties on the Commission's mailing list. Copies of the SD1 also will be available at the scoping meetings.

Site Visits

Penobscot and FERC staff will conduct a project site visit beginning at 2:00 p.m. on October 3, 2000. All interested individuals, organizations, and agencies are invited to attend. All participants should meet at the Howland Project powerhouse, off Route 116 in Howland, Maine. All participants are responsible for their own transportation to the site. Anyone who wishes to attend the site visit, or with questions about the visit, should contact Mr. Scott Hall of Penobscot at (207) 827-5364.

Objectives

At the scoping meetings, the staff will: (1) Summarize the environmental issues tentatively identified for analysis in the EA; (2) Solicit from the meeting participants all available information, especially quantifiable data, on the resources at issue; (3) encourage statements from experts and the public on issues that should be analyzed in the EA, including viewpoints in opposition to, or in support of, the staff's preliminary views; (4) determine the relative depth of analysis for issues to be addressed in the EA; and (5) identify resource issues that are of lesser importance, and, therefore, do not require detailed analysis.

Procedures

The meetings will be recorded by a stenographer and will become part of the formal record of the Commission proceeding on the project. Individuals presenting statements at the meetings will be asked to sign in before the meeting starts and to clearly identify themselves for the record. Speaking time for attendees at the meetings will be determined before the meeting, based on the number of persons wishing to speak and the approximate amount of time available for the session. All speakers will be provided at least 5 minutes to present their views.

Individuals, organizations, and agencies with environmental expertise and concerns are encouraged to attend the meetings and to assist the staff in defining and clarifying the issues to be addressed in the EA.

Persons choosing not to speak at the meetings, but who have views on the issues, may submit written statements for inclusion in the public record at the meeting. In addition, written scoping comments may be filed with the Secretary, Federal Energy Regulatory Commission, 888 First Street, NE, Washington, DC 20426, until November 6, 2000. All filings should contain an original and eight copies, and must clearly show at the top of the first page “Howland Hydroelectric Project, FERC No. 2721-013.”

For further information, please contact Ed Lee at (202) 219-2809 or e-mail at ed.lee@ferc.fed.us and Peter Foote at (716) 568-0425 or e-mail at foote@1berger.com.

Linwood A. Watson, Jr.,
Acting Secretary.

[FR Doc. 00-23834 Filed 9-15-00; 8:45 am]

BILLING CODE 6717-01-M